DEPARTMENT OF THE INTERIOR

Bureau of Reclamation

[RR02800000, 15XR0680A1, RX.1786894.60000000]

Notice of Availability of the Final Environmental Impact Statement for the Coordinated Long-Term Operation of the Central Valley Project and State Water Project

AGENCY: Bureau of Reclamation, Interior.

ACTION: Notice.

SUMMARY: The Bureau of Reclamation has made available the Final Environmental Impact Statement (EIS) on the impacts of implementing the 2008 U.S. Fish and Wildlife Service Biological Opinion and the 2009 National Marine Fisheries Service Biological Opinion, including the Reasonable and Prudent Alternatives, for the Coordinated Long-Term Operation of the Central Valley Project and State Water Project. The preferred alternative identified in the Final EIS will be to continue the operation of the Central Valley Project in coordination with the State Water Project, and implement the 2008 U.S. Fish and Wildlife Service and 2009 National Marine Fisheries Service biological opinions and reasonable and prudent alternatives stated in the No Action Alternative. The Final EIS is in response to the November 16, 2009 and March 5, 2010 rulings by the United States District Court for the Eastern District of California that the Bureau of Reclamation failed to conduct a National Environmental Policy Act review prior to accepting and implementing the Reasonable and Prudent Alternatives from the 2008 U.S. Fish and Wildlife Service and 2009 National Marine Fisheries Service Biological Opinions.

DATES: The Bureau of Reclamation will not make a decision on the proposed action until at least 30 days after release of the Final EIS. After the 30-day waiting period, the Bureau of Reclamation will complete a Record of Decision (ROD) that will state the action that will be implemented and discuss all factors leading to the decision.

ADDRESSES: To request a compact disc of the Final EIS, please contact Mr. Ben Nelson, Bureau of Reclamation, Bay-Delta Office, 801 I Street, Suite 140, Sacramento, CA 95814-2536; telephone at (916) 414-2424; or via email at bcnelson@usbr.gov. The Final EIS may be viewed at the Bureau of Reclamation's Web site at http://www.usbr.gov/mp/nepa/nepa_projdetails.cfm?Project_ID=21883, or at the following locations:

1. Bureau of Reclamation, Bay-Delta Office, 800 I Street, Suite 140, Sacramento, CA 95814.

2. Bureau of Reclamation, Regional Library, 2800 Cottage Way, Sacramento, CA 95825.

FOR FURTHER INFORMATION CONTACT: Mr. Ben Nelson, Bureau of Reclamation, via email at bcnelson@usbr.gov, or at (916) 414-2424.

SUPPLEMENTARY INFORMATION: The Central Valley Project (CVP) is the largest Federal Reclamation project. The Bureau of Reclamation operates the CVP in coordination with the State Water Project (SWP), under the Coordinated Operation Agreement between the Federal Government and the State of California (authorized by Pub. L. 99-546). In August 2008, the Bureau of Reclamation submitted a biological assessment on the Coordinated Long-Term Operation of the Central Valley Project and State Water Project (LTO) to the U.S. Fish and Wildlife Service (USFWS) and the National Marine Fisheries Service (NMFS) for consultation. Continued operation of the CVP and the SWP is needed to provide river regulation; improvement of navigation; flood control; water supply for irrigation and domestic uses; fish and wildlife mitigation, protection, restoration, and enhancement; and power generation. The CVP and SWP facilities are also operated to provide recreation benefits and in accordance with the water rights and water quality requirements adopted by the State Water Resources Control Board.

In December 2008, the USFWS issued a Biological Opinion (BO) analyzing the effects of the coordinated long-term operation of the CVP and SWP on Delta Smelt and its designated critical habitat. In June 2009, NMFS issued a BO analyzing the effects of the coordinated long-term operation of the CVP and SWP on listed salmonids, green sturgeon and southern resident killer whale and their designated critical habitats. The 2008 USFWS and 2009 NMFS BOs concluded that “. . . operation of the CVP and SWP, as proposed, was likely to jeopardize. . .” multiple listed species. Both the USFWS and NMFS Reasonable and Prudent Alternatives (RPA) for CVP and SWP operations were designed to allow the projects to continue operating without causing jeopardy or adverse modification.

Several lawsuits were filed in the United States District Court for the Eastern District of California (District Court) challenging various aspects of the USFWS and NMFS BOs and the Bureau of Reclamation's provisional acceptance and implementation of the associated RPAs. The cases were consolidated into two primary cases, one addressing the 2008 FWS BO and one addressing the 2009 NMFS BO. In both cases, Reclamation's action of accepting and implementing the BOs and RPAs was found to be a violation of NEPA. The Ninth Circuit affirmed this finding on appeal of the litigation challenging the 2008 FWS BO. The District Court required the Bureau of Reclamation to evaluate the 2008 and 2009 BOs under the National Environmental Policy Act (NEPA). The Final EIS assesses the environmental effects of five alternatives being considered as compared to the No Action Alternative. The No Action Alternative proposes management of the CVP and SWP with implementation of the 2008 and 2009 BO RPAs. All alternatives consider modifications to operational components from the 2008 USFWS and the 2009 NMFS BO RPAs. All alternatives addressed continued operation of the CVP, in coordination with the SWP.

The No Action Alternative assumes continuation of existing policy and management direction through Year 2030, including implementation of the RPAs included in the 2008 USFWS and 2009 NMFS BOs. Many of the RPAs were implemented prior to 2009 under other programs, such as the Central Valley Project Improvement Act, or are currently being implemented in accordance with the 2008 USFWS and 2009 NMFS BOs. The Bureau of Reclamation has identified the No Action Alternative as the Preferred Alternative in the Final EIS.

In response to scoping comments, the Final EIS also includes a Second Basis of Comparison that assumes coordinated operation of the CVP and SWP as if the 2008 USFWS and 2009 NMFS BOs had not been implemented. Each action alternative is evaluated against both the No Action Alternative and the Second Basis of Comparison. The Second Basis of Comparison includes several actions that were included in the RPAs of the 2008 USFWS and 2009 NMFS BOs and that would have occurred without the BOs, including projects that were being initiated prior to 2009 (e.g., Red Bluff Pumping Plant, Battle Creek Restoration and Suisun Marsh Habitat Management, Preservation, and Restoration Plan), legislatively mandated projects (e.g., San Joaquin River Restoration Program), and projects with substantial progress that would have occurred without implementation of the BOs.

Alternative 1 was informed by scoping comments from CVP and SWP water users. Alternative 1 is identical to the Second Basis of Comparison and provides an opportunity to select an alternative with the same assumptions as the Second Basis of Comparison as the Preferred Alternative.

Alternative 2 is similar to the No Action Alternative because it includes the RPA actions, except for actions that consist of projects to be evaluated for future implementation. For example, Alternative 2 does not include fish passage programs to move fish from the Sacramento River downstream of Keswick Dam to the Sacramento River upstream of Shasta Dam.

Alternative 3 was informed by scoping comments from CVP and SWP water users. Alternative 3 is similar to the Second Basis of Comparison and Alternative 1 because it generally does not include the RPA actions, but it includes additional restrictions on CVP and SWP Delta exports to reduce negative flows in the south Delta during critical periods for aquatic resources. Alternative 3 also includes provisions to reduce losses to fish that use the Delta due to predation, commercial and sport fishing ocean harvest, and fish passage through the Delta.

Alternative 4 was informed by scoping comments from CVP and SWP water users. Alternative 4 is similar to the Second Basis of Comparison and Alternative 1 because it generally does not include the RPA actions, but it includes provisions to reduce losses to fish that use the Delta due to predation, commercial and sport fishing ocean harvest, and fish passage through the Delta.

Alternative 5 was informed by scoping comments from environmental interest groups. Alternative 5 includes assumptions similar to the No Action Alternative regarding the incorporation of RPA actions, with additional provisions to provide for positive Old and Middle River (OMR) flows and increased Delta outflow from reduced exports in April and May; and modified operations for New Melones Reservoir.

A Notice of Availability of the Draft EIS was published in the Federal Register on July 31, 2015 (80 FR 45681). The comment period on the Draft EIS ended on September 29, 2015. The Final EIS contains responses to all comments received and reflects comments and any additional information received during the review period.

Statutory Authority

NEPA [42 U.S.C. 4321 et seq.] requires that Federal agencies conduct an environmental analysis of their proposed actions to determine if the actions may significantly affect the human environment.

Public Disclosure

Before including your name, address, phone number, email address or other personal identifying information in any correspondence, you should be aware that your entire correspondence—including your personal identifying information—may be made publicly available at any time. While you can ask us in your correspondence to withhold your personal identifying information from public review, we cannot guarantee that we will be able to do so.

Dated: October 8, 2015.
Pablo R. Arroyave,
Deputy Regional Director, Mid-Pacific Region.

[FR Doc. 2015-29719 Filed 11-20-15; 8:45 am]

BILLING CODE 4332-90-P